DEPARTMENT OF ENERGY

Federal Energy Regulatory Commission

Combined Notice of Filings #2

Take notice that the Commission received the following electric rate filings:

Docket Numbers: ER15-1406-002.

Applicants: Midcontinent Independent System Operator, Inc.

Description: Tariff Amendment: 2015-07-20_SA 2766 2nd Amendment to ATC-City of Elkhorn CFA to be effective 5/31/2015.

Filed Date: 7/20/15.

Accession Number: 20150720-5166.

Comments Due: 5 p.m. ET 8/10/15.

Docket Numbers: ER15-1409-002.

Applicants: Midcontinent Independent System Operator, Inc.

Description: Tariff Amendment: 2015-07-20_SA 2769 2nd Amendment to ATC-Reedsburg CFA to be effective 5/31/2015.

Filed Date: 7/20/15.

Accession Number: 20150720-5179.

Comments Due: 5 p.m. ET 8/10/15.

Docket Numbers: ER15-2226-000.

Applicants: New York Independent System Operator, Inc.

Description: Compliance filing: NYISO Compliance Order No. 676-H NAESB WEQ Business Practice Standards to be effective 5/15/2015.

Filed Date: 7/20/15.

Accession Number: 20150720-5152.

Comments Due: 5 p.m. ET 8/10/15.

Docket Numbers: ER15-2227-000.

Applicants: Midcontinent Independent System Operator, Inc.

Description: § 205(d) Rate Filing: 2015-07-20_Minnkota-MISO Coordination and Operation Agreement to be effective 9/1/2015.

Filed Date: 7/20/15.

Accession Number: 20150720-5186.

Comments Due: 5 p.m. ET 8/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2015.
Nathaniel J. Davis, Sr.,
Deputy Secretary.

[FR Doc. 2015-18496 Filed 7-27-15; 8:45 am]

BILLING CODE 6717-01-P